DEPARTMENT OF COMMERCE

National Oceanic and Atmospheric Administration

RIN 0648-XF386

Pacific Fishery Management Council; Public Meeting

AGENCY: National Marine Fisheries Service (NMFS), National Oceanic and Atmospheric Administration (NOAA), Commerce.

ACTION: Notice; public meeting.

SUMMARY: The Pacific Fishery Management Council's (Pacific Council) Ad Hoc Community Advisory Board (CAB) will hold a two-day meeting that is open to the public.

DATES: The CAB meeting will be begin Tuesday, May 30, 2017 at 10 a.m., and recess when business for the day is completed. It will continue at 8 a.m. Wednesday, May 31, adjourning when business for the day is completed.

ADDRESSES: The meeting will be held at the Sheraton Portland Airport Hotel, St. Helens Room, 8235 NE Airport Way, Portland, OR 97220. Telephone: (503) 281-2500.

Council address: Pacific Council, 7700 NE Ambassador Place, Suite 101, Portland, OR 97220-1384.

FOR FURTHER INFORMATION CONTACT: Mr. Jim Seger, Pacific Council; phone: (503) 820-2416.

SUPPLEMENTARY INFORMATION: The primary purpose of the CAB meeting is to review an initial draft of the trawl catch share program review document and to develop, for recommendation to the Pacific Council, a prioritized list of issues that would be pursued following completion of the review process in November 2017 (follow-on actions). The Pacific Council is scheduled to prioritize possible follow-on actions at its June 2017 meeting, with the aim of developing a range of alternatives for each issue by November 2017.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2425 at least 10 business days prior to the meeting date.

Dated: May 10, 2017.
Tracey L. Thompson,
Acting Deputy Director, Office of Sustainable Fisheries, National Marine Fisheries Service.

[FR Doc. 2017-09830 Filed 5-15-17; 8:45 am]

BILLING CODE 3510-22-P